DEPARTMENT OF COMMERCE

National Oceanic and Atmospheric Administration

RIN: 0648-XO79

Pacific Fishery Management Council; Public Meeting

AGENCY: National Marine Fisheries Service (NMFS), National Oceanic and Atmospheric Administration (NOAA), Commerce.

ACTION: Notice of a public meeting/workshop.

SUMMARY: The Groundfish Stock Assessment Review (STAR) Panel for petrale sole and splitnose rockfish will hold a work session which is open to the public.

DATES: The petrale sole and splitnose rockfish STAR Panel will be held beginning at 8:30 a.m., Monday, May 4, 2009. The meeting will continue on Tuesday, May 5, 2009 beginning at 8:30 a.m. through Friday, May 8, 2009. The meeting will end at 5:30 p.m. each day, or as necessary to complete business.

ADDRESSES: The petrale sole and splitnose rockfish STAR Panel meeting will be held at the NMFS Northwest Fisheries Science Center, Hatfield Marine Science Center, Captain R. Barry Fisher Building, Room 101, 2032 S.E. Oregon State University Drive, Newport, OR 97365-5296; telephone: (541) 867-0501.

Council address: Pacific Fishery Management Council, 7700 NE Ambassador Place, Suite 101, Portland, OR 97220-1384.

FOR FURTHER INFORMATION CONTACT: Ms. Stacey Miller, Northwest Fisheries Science Center (NWFSC); telephone: (206) 437-5670; or Mr. John DeVore, Pacific Fishery Management Council; telephone: (503) 820-2280.

SUPPLEMENTARY INFORMATION: The purpose of the STAR Panel meeting is to review draft stock assessment documents for petrale sole and splitnose rockfish and any other pertinent information, work with the Stock Assessment Teams to make necessary revisions, and produce STAR Panel reports for use by the Council family and other interested persons. No management actions will be decided by this STAR Panel. The STAR Panel's role will be development of recommendations and reports for consideration by the Council at its June meeting in Spokane, WA.

Although non-emergency issues not contained in the meeting agenda may come before the STAR Panel participants for discussion, those issues may not be the subject of formal STAR Panel action during these meetings. STAR Panel action will be restricted to those issues specifically listed in this notice and any issues arising after publication of this notice that require emergency action under Section 305(c) of the Magnuson-Stevens Fishery Conservation and Management Act, provided the public has been notified of the STAR Panel participants' intent to take final action to address the emergency.

Special Accommodations

This meeting is physically accessible to people with disabilities. Requests for sign language interpretation or other auxiliary aids should be directed to Ms. Carolyn Porter at (503) 820-2280 at least 5 days prior to the meeting date.

Dated: April 15, 2009.
Tracey L. Thompson,
Acting Director, Office of Sustainable Fisheries, National Marine Fisheries Service.

[FR Doc. E9-8966 Filed 4-17-09; 8:45 am]

BILLING CODE 3510-22-S